DEPARTMENT OF LABOR

Employment and Training Administration

Notice of Availability of Funds and Funding Opportunity Announcement for Training To Work 3—Adult Reentry

AGENCY: Employment and Training Administration, Labor.

ACTION: Funding Opportunity Announcement (FOA).

Funding Opportunity Number: FOA-ETA-15-07.

SUMMARY: The Employment and Training Administration (ETA), U.S. Department of Labor, announces the availability of approximately $27 million in grant funds authorized by the Workforce Investment Act and the Second Chance Act of 2007 for Training to Work 3—Adult Reentry. ETA plans to award approximately 20 grants of up to $1,360,000 each to serve male and female ex-offenders, referred to in the FOA as returning citizens.

This FOA provides the opportunity for organizations to develop and implement career pathways programs in demand sectors and occupations for men and women, including veterans, and people with disabilities, who are at least 18 years old and who are enrolled in work release programs. The purpose of this program is to assist returning citizens transition back into their communities by gaining industry-recognized credentials and securing employment.

The complete FOA and any subsequent FOA amendments in connection with this solicitation are described in further detail on ETA's Web site at http://www.doleta.gov/grants/ or on http://www.grants.gov. The Web sites provide application information, eligibility requirements, review and selection procedures, and other program requirements governing this solicitation.

DATES: The closing date for receipt of applications under this announcement is May 1, 2015. Applications must be received no later than 4:00:00 p.m. Eastern Time.

FOR FURTHER INFORMATION CONTACT: Brinda Ruggles, 200 Constitution Avenue NW., Room N-4716, Washington, DC 20210; Telephone: 202-693-3437.

The Grant Officer for this FOA is Melissa Abdullah.

Signed March 24, 2015 in Washington, DC.
Eric D. Luetkenhaus,
Grant Officer/Division Chief, Employment and Training Administration.

[FR Doc. 2015-07236 Filed 3-30-15; 8:45 am]

BILLING CODE 4510-FN-P